DEPARTMENT OF STATE

[Public Notice: 11899]

60-Day Notice of Proposed Information Collection: Application To Determine Returning Resident Status

ACTION: Notice of request for public comment.

SUMMARY: The Department of State is seeking Office of Management and Budget (OMB) approval for the information collection described below. In accordance with the Paperwork Reduction Act of 1995, we are requesting comments on this collection from all interested individuals and organizations. The purpose of this notice is to announce the Department's plan to seek OMB approval of this collection for an additional three-year period, and to initiate a 60-day period for public comment preceding submission of the collection to OMB.

DATES: The Department will accept comments from the public up to January 3, 2023.

ADDRESSES: You may submit comments by any of the following methods:

• Web: Persons with access to the internet may comment on this notice by going to www.Regulations.gov. You can search for the document by entering “Docket Number: DOS-2022-0042” in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents, to Tonya Whigham who may be reached at PRA_BurdenComments@state.gov or at 202-485-7586.

SUPPLEMENTARY INFORMATION:

• Title of Information Collection: Application to Determine Returning Resident Status.

• OMB Control Number: 1405-0091.

• Type of Request: Extension of a Currently Approved Collection.

• Originating Office: CA/VO.

• Form Number: DS-117.

• Respondents: Lawful permanent residents or conditional residents who have remained outside the United States for longer than one year, or beyond the validity period of a Re-entry Permit.

• Estimated Number of Respondents: 4,400.

• Estimated Number of Responses: 4,400.

• Average Time per Response: 30 Minutes.

• Total Estimated Burden Time: 2,200 Hours.

• Frequency: Once.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Under Section 101(a)(27)(A) of the Immigration and Nationality Act (INA), 8 U.S.C. 1101 and INA section 203(b)(4), noncitizens may be issued a special immigrant visa as a returning resident if they are an immigrant, previously lawfully admitted for permanent residence, who is returning from a temporary visit abroad for more than one year due to circumstances outside of his or her control. The DS-0117 is used to collect information necessary to determine a returning resident's eligibility.

Methodology

Individuals will submit the DS-117 electronically via email or print the form and submit to a U.S. embassy or consulate abroad for review.

Julie M. Stufft,
Deputy Assistant Secretary, Bureau of Consular Affairs, Department of State.

[FR Doc. 2022-23929 Filed 11-2-22; 8:45 am]

BILLING CODE 4710-06-P